DEPARTMENT OF STATE

[Public Notice: 12086]

Bureau of Oceans and International Environmental and Scientific Affairs; Annual Determination and Certification of Shrimp-Harvesting Nations

ACTION: Notice of annual determination and certification.

SUMMARY: On May 12th, 2023, the Department of State determined and certified to Congress that wild-caught shrimp harvested in the following nations, particular fisheries of certain nations, and Hong Kong are eligible to enter the United States: Argentina, Australia (Northern Prawn Fishery, the Queensland East Coast Trawl Fishery, the Spencer Gulf, and the Torres Strait Prawn Fishery), the Bahamas, Belgium, Belize, Canada, Chile, Colombia, Costa Rica, Denmark, the Dominican Republic, Ecuador, El Salvador, Estonia, Fiji, France (French Guiana), Gabon, Germany, Guatemala, Guyana, Honduras, Iceland, Ireland, Italy (giant red shrimp), Jamaica, Japan (shrimp baskets in Hokkaido), Republic of Korea (mosquito nets), Mexico, the Netherlands, New Zealand, Nicaragua, Nigeria, Norway, Oman, Panama, Peru, Russia, Spain (Mediterranean red shrimp), Sri Lanka, Suriname, Sweden, the United Kingdom, and Uruguay. For nations, economies, and fisheries not listed above, only shrimp harvested from aquaculture is eligible to enter the United States. All shrimp imports into the United States must be accompanied by the DS-2031 Shrimp Exporter's/Importer's Declaration.

DATES: This determination and certification notice is effective on May 25, 2023.

FOR FURTHER INFORMATION CONTACT: Jared Milton, section 609 Program Manager, Office of Marine Conservation, Bureau of Oceans and International Environmental and Scientific Affairs, Department of State, 2201 C Street NW, Washington, DC 20520-2758; telephone: (202) 647-3263; email: DS2031@state.gov.

SUPPLEMENTARY INFORMATION: Section 609 of Public Law 101-162 (“sec. 609”) prohibits imports of wild-caught shrimp or products from shrimp harvested with commercial fishing technology unless the President certifies to the Congress by May 1, 1991, and annually thereafter, that either: (1) the harvesting nation has adopted a regulatory program governing the incidental taking of relevant species of sea turtles in the course of commercial shrimp harvesting that is comparable to that of the United States and that the average rate of that incidental taking by the vessels of the harvesting nation is comparable to the average rate of incidental taking of sea turtles by United States vessels in the course of such harvesting; or (2) the particular fishing environment of the harvesting nation does not pose a threat of the incidental taking of sea turtles in the course of shrimp harvesting. The President has delegated the authority to make this certification to the Secretary of State (“Secretary”) who further delegated the authority within the Department of State (“Department”). The Revised Guidelines for the Implementation of Sec. 609 were published in the Federal Register on July 8, 1999, at 64 FR 36946.

On May 12th, 2023, the Department certified to Congress the following nations pursuant to section 609(b)(2)(A) and (B) on the basis that they have adopted a regulatory program governing the incidental taking of relevant species of sea turtles in the course of commercial shrimp harvesting that is comparable to that of the United States and that the average rate of that incidental taking by the vessels of the harvesting nation is comparable to the average rate of incidental taking of such sea turtles by United States vessels in the course of such harvesting: Colombia, Ecuador, El Salvador, Gabon, Guatemala, Guyana, Honduras, Mexico, Nicaragua, Nigeria, Panama, and Suriname. The Department also certified pursuant to section 609(b)(2)(C) several shrimp-harvesting nations and one economy as having fishing environments that do not pose a threat to sea turtles, including the following nations with shrimping grounds only in cold waters where the risk of taking sea turtles is negligible: Argentina, Belgium, Canada, Chile, Denmark, Estonia, Germany, Iceland, Ireland, the Netherlands, New Zealand, Norway, Russia, Sweden, the United Kingdom, and Uruguay. Additionally, the Department certified pursuant to section 609(b)(2)(C) that the following nations and Hong Kong only harvest shrimp using small boats with crews of less than five that use manual rather than mechanical means to retrieve nets or catch shrimp using other methods that do not pose a threat of incidental taking of sea turtles: the Bahamas, Belize, Costa Rica, the Dominican Republic, Fiji, Jamaica, Oman, Peru, and Sri Lanka.

The Department has certified the above listed nations and Hong Kong pursuant to sec. 609, and shrimp and products from shrimp are eligible for importation into the United States utilizing the Shrimp Exporter's/Importer's Declaration (“DS-2031”) Box 7(B) provision for shrimp “harvested in the waters of a nation currently certified pursuant to section 609 of Public Law 101-162.”

Shrimp and products of shrimp harvested with turtle excluder devices (“TEDs”) in an uncertified nation may, under specific circumstances, be eligible for importation into the United States under the DS-2031 Box 7(A)(2) provision for shrimp harvested by commercial shrimp trawl vessels using TEDs comparable in effectiveness to those required in the United States. Use of this provision requires that the Secretary or his or her delegate determine in advance that the government of the harvesting nation has put in place adequate procedures to monitor the use of TEDs in the specific fishery in question and to ensure the accurate completion of the DS-2031 forms. At this time, the Department has determined that only shrimp and products from shrimp harvested in the Northern Prawn Fishery, the Queensland East Coast Trawl Fishery, and the Torres Strait Prawn Fishery in Australia, and in the French Guiana domestic trawl fishery of France are eligible for entry under this provision. A responsible government official of Australia or France must sign in Block 8 of the DS-2031 form accompanying these imports into the United States. The Department suspended the determinations for the Malaysian states of Kelantan, Terengganu, Pahang, and Johor (effective for Malaysia with Dates of Export June 1st and after).

In addition, shrimp and products of shrimp harvested in a manner or under circumstances determined by the Department of State not to pose a threat of the incidental taking of sea turtles may, under specific circumstances, be eligible for importation into the United States under the DS-2031 Box 7(A)(4) provision for “shrimp harvested in a manner or under circumstances determined by the Department of State not to pose a threat of the incidental taking of sea turtles.” The Department has determined that shrimp and products from shrimp harvested in the Spencer Gulf region in Australia, with shrimp baskets in Hokkaido, Japan, with “mosquito” nets in the Republic of Korea, Mediterranean red shrimp (Aristeus antennatus) and products from that shrimp harvested in the Mediterranean Sea in Spain, and giant red shrimp (Aristaeomorpha foliacea) and products from that shrimp harvested in Italy may be imported into the United States under the DS-2031 Box 7(A)(4) provision. A responsible government official of Australia, Japan, the Republic of Korea, Spain, or Italy must sign in Block 8 of the DS-2031 form accompanying these imports into the United States.

A completed DS-2031 Shrimp Exporter's/Importer's Declaration (“DS-2031”) must accompany all imports of shrimp and products from shrimp into the United States.

Importers of shrimp and products from shrimp harvested in certified nations and Hong Kong must either provide the DS-2031 form to Customs and Border Protection at the port of entry or provide the information required by the DS-2031 through the Automated Commercial Environment. Importers of shrimp and products from shrimp from certified nations and Hong Kong should mark the box 7(B) provision for shrimp “harvested in the waters of a nation currently certified pursuant to section 609 of Public Law 101-162” regardless of whether the shrimp is wild-caught or the product of aquaculture. DS-2031 forms accompanying all imports of shrimp and products from shrimp harvested in uncertified nations and economies, to include all fisheries with determinations, must be originals with Box 7(A)(1), 7(A)(2), or 7(A)(4) checked, consistent with the form's instructions with regard to the method of harvest of the shrimp and based on any relevant prior determinations by the Department, and signed by a responsible government official of the harvesting nation. The Department did not determine that shrimp or products from shrimp harvested in a manner as described in 7(A)(3) in any uncertified nation or economy is eligible to enter the United States. The importation of wild-caught shrimp from any nation or fishery without a certification or determination will not be allowed.

The Department has communicated these certifications and determinations under Sec. 609 to the Offices of Field Operations and of Trade at U.S. Customs and Border Protection.

Maxine A. Burkett,
Deputy Assistant Secretary for Oceans, Fisheries, and Polar Affairs, Department of State.

[FR Doc. 2023-11115 Filed 5-24-23; 8:45 am]

BILLING CODE 4710-09-P